DEPARTMENT OF COMMERCE

International Trade Administration

[A-570-863]

Honey From the People's Republic of China: Final Results and Rescission of Antidumping Duty Administrative Review; 2017-2018

AGENCY: Enforcement and Compliance, International Trade Administration, Department of Commerce.

SUMMARY: The Department of Commerce (Commerce) determines that Jiangsu Runchen Agricultural/Sideline Foodstuff Co., Ltd. (Runchen) did not make a bona fide sale during the period of review (POR) of December 1, 2017 through November 30, 2018. Therefore, we are rescinding this administrative review.

DATES: Applicable July 27, 2020.

FOR FURTHER INFORMATION CONTACT: Jasun Moy, AD/CVD Operations, Office V, Enforcement and Compliance, International Trade Administration, U.S. Department of Commerce, 1401 Constitution Avenue NW, Washington, DC 20230; telephone: (202) 482-8194.

Background

On December 4, 2019, Commerce published the Preliminary Results and invited interested parties to comment.¹ On January 3, 2020, we received a case brief from Runchen.² On January 15, 2020, we received a rebuttal brief from the American Honey Producers Association and Sioux Honey Association (collectively, the petitioner).³

¹ See Honey from the People's Republic of China: Preliminary Results and Preliminary Intent to Rescind of Antidumping Duty Administrative Review; 2017-2018, 84 FR 66374 (December 4, 2019) (Preliminary Results).

² See Runchen's Letter, “Honey from the PRC—Administrative Case Brief of Jiangsu Runchen Agricultural/Sideline Foodstuff Co., Ltd.,” dated January 3, 2020. On January 9, 2020, Runchen timely refiled its case brief to remove new factual information. See Runchen's Letter, “Honey from the PRC—Administrative Case Brief of Jiangsu Runchen Agricultural/Sideline Foodstuff Co., Ltd.,” dated January 9, 2020; see also Memorandum, “Administrative Review of the Antidumping Duty Order on Honey from the People's Republic of China: Rejection of Case Brief,” dated January 8, 2020.

³ See Petitioner's Letter, “Honey from China: Petitioners' Rebuttal Brief,” dated January 15, 2020.

Scope of the Order

The merchandise subject to this order is natural honey, artificial honey containing more than 50 percent natural honey by weight, preparations of natural honey containing more than 50 percent natural honey by weight, and flavored honey. For a full description of the scope, see the Issues and Decision Memorandum.⁴

⁴ See Memorandum, “Issues and Decision Memorandum for the Antidumping Duty Administrative Review of Honey from the People's Republic of China; 2017-2018,” dated concurrently with, and hereby adopted by, this notice (Issues and Decision Memorandum).

Analysis of Comments Received

All issues raised in Runchen's case brief are listed in the appendix to this notice and are addressed in the Issues and Decision Memorandum. The Issues and Decision Memorandum is a public document and is made available to the public via Enforcement and Compliance's Antidumping and Countervailing Duty Centralized Electronic Service System (ACCESS). ACCESS is available to registered users at https://access.trade.gov. In addition, a complete version of the Issues and Decision Memorandum is available at http://enforcement.trade.gov/frn/. The signed and electronic versions of the Issues and Decision Memorandum are identical in content.

Bona Fides Analysis

In the Preliminary Results, we found that Runchen's sale of subject merchandise to the United States during the POR was not a bona fide sale. After analyzing interested parties' comments, we continue to find that Runchen's sale is not a bona fide sale. We reached this conclusion based on multiple factors, including: (1) The atypical nature of the price and quantity of the sale; (2) the profit, or lack thereof, made by Runchen's customer on the resale; and (3) other considerations, such as the timing of the payment from Runchen's customer, the fact that Runchen made only a single sale made during the POR, the lack of experience of the importer in the honey industry, and the lack of experience of Runchen in exporting honey to the United States. Our analysis led us to conclude that Runchen's POR sale is unlikely to be representative of its future sales.

Because we have determined that Runchen had no bona fide sales during the POR, we are rescinding this administrative review.

Assessment Rates

Because Commerce is rescinding this administrative review, we have not calculated a company-specific dumping margin for Runchen. Runchen remains part of the China-wide entity and the entry of its subject merchandise during the POR will be assessed antidumping duties at the China-wide entity rate. The China-wide entity rate is $2.63 per kilogram.⁵

⁵ See Honey from the People's Republic of China: Final Results of Antidumping Duty Administrative Review; 2012-2013, 80 FR 27633-34 (May 14, 2015).

Cash Deposit Requirements

As noted above, Commerce is rescinding this administrative review. Thus, we have not calculated a company-specific dumping margin for Runchen. Therefore, entries of Runchen's subject merchandise continue to be subject to the China-wide entity cash deposit rate of $2.63 per kilogram. This cash deposit requirement shall remain in effect until further notice.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order is hereby requested. Failure to comply with the regulations and terms of an APO is a violation which is subject to sanction.

Notification to Importers

This notice also serves as a final reminder to importers of their responsibility under 19 CFR 351.402(f)(2) to file a certificate regarding the reimbursement of antidumping duties prior to liquidation of the relevant entries during the POR. Failure to comply with this requirement could result in Commerce's presumption that reimbursement of antidumping duties has occurred and the subsequent assessment of double antidumping duties.

Notification to Interested Parties

We are issuing and publishing these final results in accordance with sections 751(a)(1) and 777(i)(1) of the Tariff Act of 1930, as amended, and 19 CFR 351.213(h)(1) and 19 CFR 351.221(b)(5).

Dated: July 21, 2020.
Jeffrey I. Kessler,
Assistant Secretary for Enforcement and Compliance.

Appendix

List of Topics Discussed in the Issues and Decision Memorandum

I. Summary

II. Background

III. Scope of the Order

IV. Discussion of the Issues

Comment 1: Whether a Bona Fides Analysis is Applicable in Administrative Reviews

Comment 2: Appropriateness of Using U.S. Customs and Border Protection Data

Comment 3: Whether Sale Price and Quantity Weigh in Favor of Finding Runchen's Sale Not Bona Fide

Comment 4: Whether the Goods Were Resold at a Profit

Comment 5: Other Relevant Factors

V. Recommendation

[FR Doc. 2020-16192 Filed 7-24-20; 8:45 am]

BILLING CODE 3510-DS-P